DEPARTMENT OF ENERGY

Federal Energy Regulatory Commission

[Project No. 2696-033]

Stuyvesant Falls Hydroelectric Project; Notice of Application Ready for Environmental Analysis and Soliciting Comments, Recommendations, Terms and Conditions, and Prescriptions

Take notice that the following hydroelectric application has been filed with the Commission and is available for public inspection.

a. Type of Application: New Major License.

b. Project No.: P-2696-033.

c. Date filed: July 31, 2009.

d. Applicants: Albany Engineering Corporation and the Town of Stuyvesant, New York.

e. Name of Project: Stuyvesant Falls Hydroelectric Project.

f. Location: On Kinderhook Creek, near the Town of Stuyvesant, in Columbia County, New York. The project does not occupy any Federal lands.

g. Filed Pursuant to: Federal Power Act, 16 U.S.C. 791 (a)-825(r).

h. Applicant Contact: Mr. James A. Besha, P.E., Albany Engineering Corporation, 5 Washington Square, Albany, New York 12205. Tel: (518) 456-7712.

i. FERC Contact: Andy Bernick, (202) 502-8660 or andrew.bernick@FERC.gov.

j. Deadline for filing comments, recommendations, terms and conditions, and prescriptions: 60 days from the issuance date of this notice; reply comments are due 105 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The existing Stuyvesant Falls Hydroelectric Project is currently being restored to operation under the existing license. The proposed project would consist of: (1) An existing 13-foot-high, 240-foot-long, masonry gravity dam (Stuyvesant Falls dam) on Kinderhook Creek; (2) an existing 46-acre impoundment with a normal water surface elevation of 174.3 feet National Geodetic Vertical Datum 1929; (3) an existing stone and concrete intake structure, Taintor gate, and trash sluice located near the south abutment of the gravity dam; (4) a proposed 120-kilowatt (kW) minimum flow turbine located adjacent to the intake structure; (5) two existing 7.5-foot-diameter, 2,860-foot-long, riveted-steel penstocks; (6) an existing concrete, steel, and brick powerhouse, approximately 144 feet long, 84 feet wide, and 60 feet high; (7) two single-runner Francis turbines, each with a nameplate capacity of 4,511 kW, connected to two 2,100-kW generators; (8) an existing 34.5-kilovolt (kV) primary circuit breaker, step up transformer, and 34.5-kV, 20-foot-long primary leads supplying an existing National Grid substation adjacent to the powerhouse, and a new station service line connecting the minimum flow turbine to the powerhouse; and (9) ancillary plant equipment. The existing project, following restoration, is expected to generate an estimated 11,133 megawatt-hours (MWh) annually. The proposed project would generate an estimated 14,945 megawatt-hours annually.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

All filings must (1) Bear in all capital letters the title “COMMENTS”, “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via email of new filings and issuances related to this or other pending projects. For assistance, contact FERC Online Support.

n. Public notice of the filing of the initial development application, which has already been given, established the due date for filing competing applications or notices of intent. Under the Commission's regulations, any competing development application must be filed in response to and in compliance with public notices of the initial development application. No competing applications or notices of intent may be filed in response to this notice.

o. A license applicant must file no later than 60 days following the date of issuance of this notice: (1) A copy of the water quality certification; (2) a copy of the request for certification, including proof of the date on which the certifying agency received the request; or (3) evidence of wavier of water quality certification.

Dated: January 27, 2012.
Kimberly D. Bose,
Secretary.

[FR Doc. 2012-2380 Filed 2-2-12; 8:45 am]

BILLING CODE 6717-01-P